EXPORT-IMPORT BANK

Intent To Conduct a Detailed Economic Impact Analysis

AGENCY: Policy and Planning Division, Export-Import Bank of the United States.

ACTION: Notice; withdrawal.

SUMMARY: This notice is to inform the public that the Export-Import Bank of the United States is withdrawing a previous Federal Register notice informing the public of its intent to conduct a detailed economic impact analysis regarding a loan guarantee to support the export of U.S.-manufactured Boeing 787 wide-body passenger aircraft to an airline in China. Export-Import Bank has recently learned that the Chinese airline will not likely operate on routes in direct competition with U.S. airlines. This recent information was not available at the time the original Federal Register notice was posted on August 5th, 2013. Based on this new information, the evaluated transaction does not meet the substantial injury threshold and is therefore not subject to a detailed economic impact analysis.

DATES: The Federal Register notice published on August 5, 2013 at 78 FR 47317 is withdrawn as of November 7, 2013.

FOR FURTHER INFORMATION CONTACT: Interested parties may submit comments on this transaction by email to economic.impact@exim.gov or by mail to 811 Vermont Avenue NW., Room 442, Washington, DC 20571.

James C. Cruse,
Senior Vice President, Policy and Planning.

[FR Doc. 2013-26684 Filed 11-6-13; 8:45 am]

BILLING CODE 6690-01-P